DEPARTMENT OF COMMERCE

Foreign-Trade Zones Board

[Order No. 1728]

Voluntary Termination of Foreign-Trade Subzone 102A, Ford Motor Corporation, Hazelwood, MO

Pursuant to the authority granted in the Foreign-Trade Zones Act of June 18, 1934, as amended (19 U.S.C. 81a-81u), and the Foreign-Trade Zones Board Regulations (15 CFR part 400), the Foreign-Trade Zones Board has adopted the following order:

Whereas, on April 27, 1984, the Foreign-Trade Zones Board issued a grant of authority to the St. Louis County Port Authority (grantee of FTZ 102) authorizing the establishment of Foreign-Trade Subzone 102A at the Ford Motor Corporation plant in Hazelwood, Missouri (Board Order 252, 49 FR 19541, 5/8/84);

Whereas, the St. Louis County Port Authority has advised that zone procedures are no longer needed at the facility and requested voluntary termination of Subzone 102A (FTZ Docket 66-2010);

Whereas, the request has been reviewed by the FTZ Staff and Customs and Border Protection officials, and approval has been recommended;

Now, therefore, the Foreign-Trade Zones Board terminates the subzone status of Subzone 102A, effective this date.

Signed at Washington, DC, this 20th day of December 2010.
Ronald K. Lorentzen,
Deputy Assistant Secretary for Import Administration, Alternate Chairman, Foreign-Trade Zones Board.
Andrew McGilvray,
Executive Secretary.

[FR Doc. 2010-33125 Filed 12-30-10; 8:45 am]

BILLING CODE P